DEPARTMENT OF LABOR

Employment and Training Administration

[TA-W-41,973]

Lapcor Plastics, Manitowoc, Wisconsin; Notice of Termination of Investigation

Pursuant to Section 221 of the Trade Act of 1974, an investigation was initiated on August 19, 2002 in response to a worker petition, which was filed by Pace, Local 7-0449 on behalf of workers at Lapcor Plastics, Manitowoc, Wisconsin.

The petitioning group of workers is subject to an ongoing investigation for which a determination has not yet been issued (TA-W-41,930). Consequently, further investigation in this case would serve no purpose, and the investigation has been terminated.

Signed in Washington, DC this 17th day of September 2002.
Richard Church,
Certifying Officer, Division of Trade Adjustment Assistance.

[FR Doc. 02-26743 Filed 10-21-02; 8:45 am]

BILLING CODE 4510-30-P